DEPARTMENT OF AGRICULTURE

Agricultural Marketing Service

7 CFR Part 1216

[Docket No. FV-04-701]

Peanut Promotion, Research and Information Order; Continuance Referendum

AGENCY: Agricultural Marketing Service, Agriculture.

ACTION: Notice of a Continuance Referendum.

SUMMARY: This document directs that a referendum be conducted among the eligible producers of peanuts to determine whether they favor continuance of the Peanut Promotion, Research and Information Order (Order).

DATES: This referendum will be conducted from May 10, 2004 through June 11, 2004. To vote in this referendum, producers must have paid assessments on peanuts produced during the representative period from October 1, 2002 to April 30, 2004.

ADDRESSES: Copies of the Order may be obtained from: Referendum Agent, Research and Promotion Branch (RP), Fruit and Vegetable Programs (FV), AMS, USDA, Stop 0244, Room 2535-S, 1400 Independence Avenue, SW., Washington, DC 20250-0244, telephone (888) 720-9917 (toll free), fax (202) 205-2800, e-mail deborah.simmons@usda.gov.

SUPPLEMENTARY INFORMATION: Pursuant to the Commodity Promotion, Research and Information Act of 1996 (7 U.S.C. 7411-7425) (Act), it is hereby directed that a referendum be conducted to ascertain whether continuance of the Order is favored by producers of peanuts. The Order is authorized under the Act.

The representative period for establishing voter eligibility for the referendum shall be the period from October 1, 2002 to April 30, 2004. Persons who are producers of peanuts and paid assessments at the time of the referendum and during the representative period are eligible to vote. Persons who received an exemption from assessments for the entire representative period are ineligible to vote. The referendum shall be conducted by mail from May 10, 2004 through June 11, 2004.

Section 518 of the Act authorizes continuance referenda. Under section 1216.82 of the order, the Department of Agriculture (Department) shall conduct a referendum every five years or when 10 percent or more of the eligible voters petition the Secretary of Agriculture to hold a referendum to determine if persons subject to assessment favor continuance of the Order. The Department would continue the Order if continuance of the Order is approved by a simple majority of the producers voting in the referendum.

In accordance with the Paperwork Reduction Act of 1995 (44 U.S.C. chapter 35), the referendum ballot has been approved by the Office of Management and Budget (OMB) and assigned OMB NO. 0581-0093. It has been estimated that there are approximately 17,000 producers who will be eligible to vote in the referendum. It will take an average of 15 minutes for each voter to read the voting instructions and complete the referendum ballot.

Referendum Order

Deborah S. Simmons and Margaret B. Irby, RP, FV, AMS, USDA, Stop 0244, Room 2535-S, 1400 Independence Avenue, SW., Washington, DC 20250-0244, are designated as the referendum agents to conduct this referendum. The referendum procedures 7 CFR 1216.100 through 1216.107, which were issued pursuant to the Act, shall be used to conduct the referendum.

The referendum agents will mail the ballots to be cast in the referendum and voting instructions to all known producers prior to the first day of the voting period. Persons who are producers and paid assessments at the time of the referendum and during the representative period are eligible to vote. Persons who received an exemption from assessments during the entire representative period are ineligible to vote. Any eligible producer who does not receive a ballot should contact the referendum agent no later than one week before the end of the voting period. Ballots must be received by the referendum agent after May 10, 2004 but before June 11, 2004, in order to be counted.

Dated: April 19, 2004.
A.J. Yates,
Administrator, Agricultural Marketing Service.

[FR Doc. 04-9134 Filed 4-19-04; 1:01 pm]

BILLING CODE 3410-02-P